DEPARTMENT OF THE INTERIOR

Bureau of Ocean Energy Management

[Docket No. BOEM-2022-0030]

Outer Continental Shelf Official Protraction Diagrams and Official Protraction Aliquot Diagrams

AGENCY: Bureau of Ocean Energy Management, Interior.

ACTION: Availability of North American Datum of 1983 Outer Continental Shelf Provisional Official Protraction Diagrams and Provisional Official Aliquot Protraction Diagrams for the Gulf of Mexico.

SUMMARY: Notice is hereby given of the availability of new North American Datum of 1983 (NAD83)-based Outer Continental Shelf (OCS) Provisional Official Protraction Diagrams (OPDs) and Provisional Official Protraction Aliquot Diagrams (OPADs) depicting geographic areas located in the Gulf of Mexico (GOM) and covering the extent of the area included in the “Call for Information and Nominations—Commercial Leasing for Wind Power Development on the Outer Continental Shelf in the Gulf of Mexico.”

ADDRESSES: Copies of the OPDs and OPADs are available for download in .pdf format from https://www.boem.gov/gom83-cadastral-data.

FOR FURTHER INFORMATION CONTACT: Beth Wenstrom, Chief, Geospatial Services Division, Office of Strategic Resources, at (703) 787-1312 or via email at beth.wenstrom@boem.gov.

SUPPLEMENTARY INFORMATION: The Bureau of Ocean Energy Management (BOEM), in accordance with its authority and responsibility under the OCS Lands Act, is announcing the availability of diagrams that could be used for the description of potential energy and mineral lease sales in the geographic areas that the diagrams represent.

The extent of the currently-published diagram coverage is shown in Figure 1, below.

The maps represent the first provisional OPDs and OPADs published by BOEM that reflect Federal waters seaward of the States of Louisiana and Texas in the NAD83 datum. OPDs and OPADs depict the cadastral subdivisions of the OCS that legally define all leasing areas. The diagrams depict areal measurements and offshore boundaries and identify Federal and state land ownership for individual OCS leasing blocks. These provisional OPDs and OPADs represent the approximate locations of the Submerged Lands Act and Limit of “8(g)/8(p) Zone” boundaries. Available diagrams have the latest approval date under the diagram number and may also carry the name of a city, town, or prominent natural feature within it. Further information is provided on the specific OPDs and OPADs.

The provisional diagrams neither supersede nor replace the North American Datum of 1927 OPDs and Leasing Maps (LMs) or Notices to Lessees (NTLs) guidance previously published by BOEM and used for oil and gas leasing (e.g., NTL No. 2009-G29). The provisional OPDs and OPADs described in this notice are for informational purposes only and are published to support a potential future offshore wind lease sale in the GOM. These diagrams will be superseded by official versions in advance of a potential offshore wind lease sale in the GOM.

Provisional Outer Continental Shelf OPDs and OPADs in the Gulf of Mexico

Description—Date (in mm/dd/yyyy Format)

OPD Gulf of Mexico NAD83 Index Map—6/9/2022

OPD NG14-09 (Brownsville)—6/1/2022

OPAD NG14-09 (Brownsville)—6/1/2022

OPD NG14-06 (Port Isabel)—6/1/2022

OPAD NG14-06 (Port Isabel)—6/1/2022

OPD NG14-03 (Corpus Christi)—6/1/2022

OPAD NG14-03 (Corpus Christi)—6/1/2022

OPD NH14-12 (Beeville)—6/1/2022

OPAD NH14-12 (Beeville)—6/1/2022

OPD NG15-01 (East Breaks)—6/1/2022

OPAD NG15-01 (East Breaks)—6/1/2022

OPD NG15-02 (Garden Banks)—6/1/2022

OPAD NG15-02 (Garden Banks)—6/1/2022

OPD NG15-03 (Green Canyon)—6/1/2022

OPAD NG15-03 (Green Canyon)—6/1/2022

OPD NH15-10 (Bay City)—6/1/2022

OPAD NH15-10 (Bay City)—6/1/2022

OPD NH15-11 (Bouma Bank)—6/1/2022

OPAD NH15-11 (Bouma Bank)—6/1/2022

OPD NH15-12 (Ewing Bank)—6/1/2022

OPAD NH15-12 (Ewing Bank)—6/1/2022

OPD NH15-07 (Houston)—6/1/2022

OPAD NH15-07 (Houston)—6/1/2022

OPD NH15-08 (Port Arthur)—6/1/2022

OPAD NH15-08 (Port Arthur)—6/1/2022

OPD NH15-09 (New Orleans)—6/1/2022

OPAD NH15-09 (New Orleans)—6/1/2022

OPD NH16-10 (Mississippi Canyon)—6/1/2022

OPAD NH16-10 (Mississippi Canyon)—6/1/2022

OPD NH16-07 (Viosca Knoll)—6/1/2022

OPAD NH16-07 (Viosca Knoll)—6/1/2022

Amanda Lefton,
Director, Bureau of Ocean Energy Management.

[FR Doc. 2022-17853 Filed 8-18-22; 8:45 am]

BILLING CODE 4340-98-P